DEPARTMENT OF TRANSPORTATION

Federal Aviation Administration

14 CFR Part 39

[Docket No. FAA-2004-19242; Directorate Identifier 2004-NE-21-AD; Amendment 39-13871; AD 2004-23-16]

RIN 2120-AA64

Airworthiness Directives; McCauley Propeller Systems Five-Blade Propeller Assemblies

AGENCY: Federal Aviation Administration (FAA), DOT.

ACTION: Final rule; request for comments.

SUMMARY: The FAA is adopting a new airworthiness directive (AD) for McCauley Propeller Systems propeller assemblies, part numbers (P/Ns) B5JFR36C1101/114GCA-0, C5JFR36C1102/L114GCA-0, B5JFR36C1103/114HCA-0, and C5JFR36C1104/L114HCA-0, installed on BAE Systems (Operations) Limited Jetstream Model 4100 series airplanes. This AD requires a one-time eddy-current inspection of the propeller hub for cracks, and if necessary, replacing the propeller assembly. This AD results from three reports of cracked hubs. We are issuing this AD to detect cracked hubs, which could cause failure of the propeller hub and loss of control of the airplane.

DATES: This AD becomes effective December 7, 2004. The Director of the Federal Register approved the incorporation by reference of certain publications listed in the regulation as of December 7, 2004.

We must receive any comments on this AD by January 21, 2005.

ADDRESSES: Use one of the following addresses to comment on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

Contact McCauley Propeller Systems, P.O. Box 7704, Wichita, KS 67277-7704, U.S.A.; telephone (800) 621-7767, for the service information identified in this AD.

FOR FURTHER INFORMATION CONTACT: Timothy Smyth, Aerospace Engineer, Chicago Aircraft Certification Office, FAA, Small Airplane Directorate, 2300 East Devon Avenue, Des Plaines, IL 60018; telephone: (847) 294-7132; fax: (847) 294-7834.

SUPPLEMENTARY INFORMATION: We have received three reports of cracks in the hubs of certain McCauley Propeller Systems propeller assemblies. An operator reported an oil leak at the end of a flight. Investigation revealed a significant crack in the propeller hub. In addition, the same operator reported cracks in two other hubs that might be related to the first report. In both of those reports, the operator inspected the hub because of reported oil leaks. The operator performed a voluntary inspection program, and did not find any more cracks. About 30 percent of the remaining fleet has complied with the voluntary inspection over the past several months. No operator has reported any more cracked hubs. Although we believe the cracks are caused by fatigue, we don't know the exact cause. One possibility is that operating the propeller in the restricted RPM range during ground operation is contributing to premature failure of the propeller hub. This condition, if not corrected, could result in failure of the propeller hub and loss of control of the airplane.

Relevant Service Information

We have reviewed and approved the technical contents of McCauley Alert Service Bulletin (ASB) No. ASB247A, Revision A, dated August 18, 2004. That ASB describes procedures for removing the propeller from the airplane, performing an eddy-current inspection, and installing the propeller after the inspection.

FAA's Determination and Requirements of This AD

The unsafe condition described previously is likely to exist or develop on other McCauley Propeller Systems propeller assemblies, P/Ns B5JFR36C1101/114GCA-0, C5JFR36C1102/L114GCA-0, B5JFR36C1103/114HCA-0, and C5JFR36C1104/L114HCA-0, of the same type design. We are issuing this AD to detect cracked hubs, which could cause failure of the propeller hub and loss of control of the airplane. This AD requires performing a one-time eddy-current inspection of the propeller hub for cracks within:

• 200 hours time-since-last inspection (TSLI), but not later than 30 days after the effective date of this AD, on propeller assemblies with more than 8,000 hours time-in-service (TIS) and, if necessary, replacing the propeller assembly.

• 400 hours TSLI, but not later than 60 days after the effective date of this AD, on propeller assemblies with 8,000 or fewer hours TIS and, if necessary, replacing the propeller assembly.

You must use the service information described previously to perform the actions required by this AD.

FAA's Determination of the Effective Date

Since an unsafe condition exists that requires the immediate adoption of this AD, we have found that notice and opportunity for public comment before issuing this AD are impracticable, and that good cause exists for making this amendment effective in fewer than 30 days.

Interim Action

These actions are interim actions and we might take further rulemaking actions in the future.

Comments Invited

This AD is a final rule that involves requirements affecting flight safety and was not preceded by notice and an opportunity for public comment; however, we invite you to send any written relevant data, views, or arguments on this AD. Send your comments to an address listed under ADDRESSES. Include “AD Docket No. FAA-2004-19242; Directorate Identifier 2004-NE-21-AD” in the subject line of your comments. We specifically invite comments on the overall regulatory, economic, environmental, and energy aspects of the rule that might suggest a need to adjust it.

We will post all comments we receive, without change, to http://dms.dot.gov, including any personal information you provide. We will also post a report summarizing each substantive verbal contact with FAA personnel about this AD. Using the search function of the Docket Management System (DMS) web site, anyone can find and read the comments in any of our dockets, including the name of the individual who sent the comment (or signed the comment for an association, business, labor union, etc.). You may review the DOT's complete Privacy Act Statement in the Federal Register published on April 11, 2000 (65 FR 19477-78), or you may visit http://dms.dot.gov.

We are reviewing the writing style we currently use in regulatory documents. We are interested in your comments on whether the style of this document is clear, and your suggestions to improve the clarity of our communications with you. You can get more information about plain language at http://www.faa.gov/language and http://www.plainlanguage.gov.

Examining the AD Docket

You may examine the docket that contains the AD, any comments received, and any final disposition in person at the DMS Docket Offices between 9 a.m. and 5 p.m., Monday through Friday, except Federal holidays. The Docket Office (telephone (800) 647-5227) is located on the plaza level of the Department of Transportation Nassif Building at the street address stated in ADDRESSES. Comments will be available in the AD docket shortly after the DMS receives them.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Incorporation by reference, Safety.

Adoption of the Amendment

Under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2004-23-16 McCauley Propeller Systems: Amendment 39-13871. Docket No. FAA-2004-19242; Directorate Identifier 2004-NE-21-AD.

Effective Date

(a) This airworthiness directive (AD) becomes effective December 7, 2004.

Affected ADs

(b) None.

Applicability

(c) This AD applies to McCauley Propeller Systems propeller assemblies, part numbers (P/Ns) B5JFR36C1101/114GCA-0, C5JFR36C1102/L114GCA-0, B5JFR36C1103/114HCA-0, and C5JFR36C1104/L114HCA-0, installed on BAE Systems (Operations) Limited Jetstream Model 4100 series airplanes.

Unsafe Condition

(d) This AD results from three reports of cracked hubs. We are issuing this AD to detect cracked hubs, which could cause failure of the propeller hub and loss of control of the airplane.

Compliance

(e) You are responsible for having the actions required by this AD performed within the compliance times specified unless the actions have already been done.

Onetime Eddy-Current Inspection

(f) Perform a onetime eddy-current inspection using the compliance times specified in Table 1 of this AD. Use 1.A. through 2.D.(7)(c) of the Accomplishment Instructions of McCauley Alert Service Bulletin (ASB) No. ASB247A, Revision A, dated August 18, 2004.

Table 1.—Compliance Times
If the propeller assembly has . . . | Then inspect . . .
(1) More than 8,000 hours time-in-service (TIS) on the effective date of this AD | Within 200 hours time-since-last inspection (TSLI) or within 30 days after the effective date of this AD, whichever is earlier.
(2) 8,000 or fewer hours TIS on the effective date of this AD | Within 400 hours TSLI or within 60 days after the effective date of this AD, whichever is earlier.

Credit for Previous Compliance

(g) Performing the eddy-current inspection using McCauley ASB No. A247, dated April 30, 2004, is acceptable for compliance with this AD.

Reporting Requirements

(h) The reporting requirement specified in 2.D.(5) of the Accomplishment Instructions of Alert Service Bulletin No. ASB247A, Revision A, dated August 18, 2004, are approved by the Office of Management and Budget and assigned OMB control number 2120-0056.

Alternative Methods of Compliance

(i) The Manager, Chicago Aircraft Certification Office, has the authority to approve alternative methods of compliance for this AD if requested using the procedures found in 14 CFR 39.19.

Material Incorporated by Reference

(j) You must use McCauley Propeller Systems Alert Service Bulletin No. ASB247A, Revision A, dated August 18, 2004, to perform the actions required by this AD. The Director of the Federal Register approved the incorporation by reference of this service bulletin in accordance with 5 U.S.C. 552(a) and 1 CFR part 51. You can get a copy from McCauley Propeller Systems, P.O. Box 7704, Wichita, KS 67277-7704, U.S.A.; telephone (800) 621-7767. You may review copies on the internet at http://dms.dot.gov, or at the National Archives and Records Administration (NARA). For information on the availability of this material at NARA, call 202-741-6030, or go to: http://www.archives.gov/federal_register/code_of_federal_regulations/ibr_locations.html.

Related Information

(k) None.

Issued in Burlington, Massachusetts, on November 10, 2004.
Peter A. White,
Acting Manager, Engine and Propeller Directorate, Aircraft Certification Service.

[FR Doc. 04-25543 Filed 11-19-04; 8:45 am]

BILLING CODE 4910-13-U